POSTAL SERVICE

39 CFR Part 111

Delivery of Mail to a Commercial Mail Receiving Agency

AGENCY: Postal Service.

ACTION: Proposed rule with request for comments.

SUMMARY: The purpose of this proposal is to amend section D042.2.6(e) of the Domestic Mail Manual (DMM) to revise the requirements for delivery of an addressee's mail to a commercial mail receiving agency. The proposal provides an additional optional secondary address designation element that may be used in the delivery address of holders of private mailboxes.

DATES: Comments must be received on or before April 12, 2000.

ADDRESSES: Written comments should be mailed to Manager, Delivery, U.S. Postal Service, 475 L'Enfant Plaza SW Room 7142, Washington, DC 20260-2802. Copies of all written comments will be available for inspection and photocopying between 9:00 a.m. and 4:00 p.m., Monday through Friday, at the above address.

FOR FURTHER INFORMATION CONTACT: Roy E. Gamble, (202) 268-3197.

SUPPLEMENTARY INFORMATION: On March 25, 1999, the Postal Service published a final rule in the Federal Register adopting revised regulations governing the operation of commercial mail receiving agencies (CMRAs) with an effective date of April 26, 1999 (64 FR 14385). One of the revised rules, Domestic Mail Manual (DMM) D042.2.6(e), required the use of “PMB” (private mailbox) in the complete mailing address of all CMRA customers. The Postal Service believes the required use of “PMB” in the CMRA customer's private mailbox address will provide CMRA mailbox holders' correspondents with the true identity of the mailing address of the mailbox holder. Under previous standards, many CMRA mailbox holders used addresses bearing secondary address indicators such as “Suite,” “Apartment,” or other designator indicating a physical presence at that street address. The Postal Service adopted the “PMB” designation to ensure that the public would be aware that the address is not a physical location and thereby discourage fraudulent or deceptive practices that might adversely affect senior citizens and other consumers, businesses, and even federal, state, and local governments.

This proposal to amend DMM D042.2.6(e) is an outgrowth of meetings the Postal Service conducted after publication of the revised rules with various groups representing the CMRA industry, small businesses, the self-employed, small and home office (SOHO) operators, and government organizations. Some of these participants asserted, as had commentors during the rulemaking, that the use of the “PMB” designation would have a negative effect on the businesses of CMRA mailbox holders. That is, they asserted that some consumers might be discouraged from doing business with CMRA mailbox holders due to perceptions that those businesses are somehow “unsavory.” Although the Postal Service, as discussed in the March 25 rulemaking, is not convinced that this would happen, it nonetheless wishes to ensure that this unintended consequence does not occur. During the discussions referenced above, some of the participants proposed a modification that would allow private mailbox holders the alternative to use the “#” sign in lieu of “PMB” in their mailing addresses at a CMRA. Although the Postal Service believes that the rule adopted on March 25, 1999, best serves the consumer protection needs of the American public, it nevertheless wishes to balance this goal with the concerns of the small business community. The Postal Service believes that the proposal outlined herein balances these interests.

Summary of Proposed Change

Proposed DMM section D042.2.6(e) provides that the CMRA delivery address designation for customer's mail must contain specific address elements identifying it as the location to which a mailpiece is delivered. Unlike the current rule, the proposed rule would permit use of the “#” sign as an alternative to the “PMB” designation, the only authorized secondary designation that may be used in the delivery address under the rules published on March 25, 1999. As with that rule, the mailbox holder would not be permitted to use “Suite,” “Apartment,” or any other designator indicating a physical presence at the address. Instead, it would require the use of the designation “PMB” or the alternate “#” designation, along with the appropriate unique number assigned to the mailbox holder by the CMRA.

Current standards specify that a four-line format should be used for CMRA customer addresses. Domestic Mail Manual section D042.2.6(e) remains the preferred format. Nevertheless, CMRA customers will be permitted an option to use a three-line format, if the sender of the mailpiece is unable to provide the four-line format due to computer software or storage limitations, with the exceptions discussed below. Examples of acceptable three-line format addresses are:

JOE DOE

10 MAIN ST PMB 234

HERNDON VA 22071-2716

or

JOE DOE

10 MAIN ST #234

HERNDON VA 22071-2716

or

JOE DOE

10 MAIN ST STE 11 PMB 234

HERNDON VA 22071-2716

The CMRA customer must not use the # sign in the three-line format when the physical address of the CMRA contains a secondary address element on the delivery address line; for example, “Rural Route Box Number,” “Suite,” “Floor,” “Building,” “Unit,” “#,” or other term. For example, the use of the # sign in a three-line format address of a CMRA customer is not permitted in the following addresses:

JOE DOE

10 MAIN ST STE 11 PMB 234

HERNDON VA 22071-2716

or

Joe Doe

RR 1 BOX 12 PMB 234

HERNDON VA 22071-2716

In this case, the following must be used:

JOE DOE

#234

10 MAIN ST STE 11

HERNDON VA 22071-2716

or

JOE DOE

#234

RR 1 BOX 12

HERNDON VA 22071-2716

Note: It is also impermissible to combine the secondary address element of the physical location of the CMRA address and the CMRA customer private mailbox number (e.g., 10 MAIN ST STE 11-234). In CMRA physical addresses which contain a secondary address element on the delivery address line, the addition of the # sign and the private mailbox number of a CMRA customer on the delivery address line will likely cause operational problems. The problems are related to automation misreading the address, leading to returned or misdirected mail, service delays, and increased costs in processing and delivering the mail. Accordingly, where the CMRA address contains a secondary address element, the CMRA customer must not use the # sign in the address in the three-line format. The four-line format currently set forth in DMM section D042.2.6(e) must be used.

The public would be provided the means to know that an address bearing the “#” designation is located at a CMRA, although in some instances attainment of this knowledge would require a step in addition to reading the address on the mailpiece. An address bearing the “PMB” designation would always be located at a CMRA. However, an address bearing the “#” designation may or may not be at a CMRA; the Postal Service will maintain a toll-free number which will allow individuals to ascertain whether the “#” designation address is located at a CMRA. The Postal Service will also engage in an information campaign to educate the public on the “PMB” and “#” designations and the availability of the toll-free number. Under the rules published by the Postal Service on March 25, 1999, and subsequent extensions, mail addressed to private mailboxes was to include the “PMB” designation by April 26, 2000. Due to the time required for the public comment period and the issuance of the final rule for this proposal, the April 26, 2000, deadline is extended to August 26, 2000.

Although exempt from the notice and comment requirements of the Administrative Procedures Act (5 U.S.C. of 553(b), (c)) regarding proposed rulemaking by 39 U.S.C. 410(a), the Postal Service invites public comment on the following proposed revision to the Domestic Mail Manual, incorporated by reference in the Code of Federal Regulations. See 39 CFR 111.1.

List of Subjects in 39 CFR Part 111

Administrative practice and procedure, Postal Service.

For the reasons discussed above, the Postal Service proposes to adopt the following amendments to the Domestic Mail Manual, which is incorporated by reference in the Code of Federal Regulations (39 CFR part 111):

PART 111—[AMENDED]

1. The authority citation for 39 CFR part 111 continues to read as follows:

Authority: 5 U.S.C. 552(a); 39 U.S.C. 101, 401, 403, 3001-3011, 3201-3219, 3403-3406, 3621, 5001.

2. Section D042.2.0 of the Domestic Mail Manual (DMM) is amended by revising subsection D042.2.6 (e) to read as follows:

D DEPOSIT, COLLECTION, AND DELIVERY

D000 Basic Information

* * * * *

D040 Delivery of Mail

* * * * *

D042 Conditions of Delivery

* * * * *

2.0 DELIVERY TO ADDRESSEE'S AGENT

* * * * *

2.6 Delivery to CMRA

* * * * *

e. A CMRA must represent its delivery address designations for the intended addressees by the use of private mailbox (PMB) or the alternative (#) sign. The CMRA delivery address designations must specify the location to which a mailpiece is delivered. Mailpieces must bear a delivery address that contains the following elements, in this order:

Preferred Format

(Line 1) Intended addressee's name or other identification. Examples: JOE DOE or ABC CO.

(Line 2) PMB and number or the alternative # sign and number. Example: PMB 234 or #234.

(Line 3) Street number and name or post office box number or rural route designation and number. Examples: 10 MAIN ST or PO BOX 34 or RR 1 BOX 12.

(Line 4) City, state, and ZIP Code (5-digit or ZIP+4).

Example: HERNDON VA 22071-2716.

Examples of acceptable four-line format addresses are:

JOE DOE

PMB 234

RR 1 BOX 12

HERNDON VA 22071-2716

or

JOE DOE

#234

10 MAIN ST STE 11

HERNDON VA 22071-2716

Alternate Format

(Line 1) Intended addressee's name or other identification.

Examples: JOE DOE or ABC CO.

(Line 2) Street number and name or post office box number and PMB and number or the alternative # sign and number.

Examples: 10 MAIN ST PMB 234 or #234 or PO BOX 34 PMB 234 or #234.

(Line 3) City, state, and ZIP Code (5-digit or ZIP+4).

Example: HERNDON VA 22071-2716.

The CMRA customer must not use the # sign in the three-line format when the physical address of the CMRA contains a secondary address element on the delivery address line; for example, “Rural Route Box Number,” “Suite,” “Floor,” “Building,” Unit,” “#,” or other term. For example, the use of the # sign in a three-line format address of a CMRA customer is not permitted in the following addresses:

JOE DOE

10 MAIN ST STE 11 #234

HERNDON VA 22071-2716

or

Joe Doe

RR 12 BOX 512 #234

Herndon VA 22071-2716

In this case, the following must be used:

JOE DOE

10 MAIN ST STE 11 PMB 234

HERNDON VA 22071-2716

or

JOE DOE

#234

10 MAIN ST STE 11

HERNDON VA 22071-2716

or

JOE DOE

RR 12 Box 512 PMB 234

HERNDON VA 22071-2716

or

JOE DOE

#234

RR 12 Box 512

HERNDON VA 22071-2716

It is also impermissible to combine the secondary address element of the physical location of the CMRA address and the CMRA customer private mailbox number, e.g., 10 MAIN ST STE 11-234. In CMRA physical addresses which contain a secondary address element on the delivery address line, the addition of the # sign and the private mailbox number of a CMRA customer on the delivery address line will likely cause operational problems. The problems are related to automation misreading the address, leading to returned or misdirected mail, service delays, and increased costs in processing and delivering the mail. Accordingly, where the CMRA address contains a secondary address element, the CMRA customer must not use the # sign in the address in the three-line format. The CMRA must write the complete CMRA delivery address used to deliver mail to each individual addressee or firm on the Form 1583 (block 3). The Postal Service may return mail without a proper address to the sender endorsed “Undeliverable as Addressed, Missing PMB or # Sign.”

* * * * *

An appropriate amendment to 39 CFR 111.3 to reflect this change will be published if the proposal is adopted.

Stanley F. Mires,
Chief Counsel, Legislative.

[FR Doc. 00-6050 Filed 3-10-00; 8:45 am]

BILLING CODE 7710-12-P